DEPARTMENT OF COMMERCE

National Oceanic and Atmospheric Administration

50 CFR Part 600

[I.D. 102201B]

Magnuson-Stevens Act Provisions; Essential Fish Habitat; Public Meeting

AGENCY: National Marine Fisheries Service (NMFS), National Oceanic and Atmospheric Administration (NOAA), Commerce.

ACTION: Notification of public meeting.

SUMMARY: The North Pacific Fishery Management Council (NPFMC) will hold an essential fish habitat (EFH) committee meeting on November 5 and 9, 2001, to review the NMFS draft summary of EFH scoping comments and issues, to identify significant issues and preliminary alternatives, and to review the mission of the EFH Committee. NMFS will hold a workshop November 6 through 9, 2001, to develop a range of alternatives for the designation of EFH and habitat areas of particular concern (HAPC), and to determine the steps necessary to develop a range of alternatives for the minimization of the effects of fishing on EFH.

DATES: The EFH committee will meet from 10:30 p.m. to 5 p.m. on Monday, November 5, 2001, and from 8:30 a.m. to noon on Friday, November 9, 2001. The NMFS EFH workshop will be held Tuesday, November 6 through Friday, November 9. The workshop will start at 10 a.m. Tuesday and at 8 a.m. Wednesday through Friday.

ADDRESSES: The EFH Committee meetings and the NMFS workshop will meet in Juneau, AK, at the Juneau Federal Building, 709 West 9th Street in Room 445. On Friday, the EFH Committee will meet in Room 150.

Questions should be addressed to NMFS, Habitat Conservation Division, Attn: Cindy Hartmann, 709 West 9th Street, Suite 461, P.O. Box 21668, Juneau, AK 99802-1668.

FOR FURTHER INFORMATION CONTACT: Cindy Hartmann, NMFS, (907) 586-7585, e-mail: Cindy.Hartmann@noaa.gov; or David Witherell, North Pacific Fishery Management Council (NPFMC), (907) 271-2809, e-mail: David.Witherell@noaa.gov.

SUPPLEMENTARY INFORMATION:

Background

The NPFMC EFH committee was formally established by the NPFMC's acting executive director in May 2001. The committee was established in response to the need to prepare a supplemental environmental impact statement (SEIS) for the EFH fishery management plan amendments. For further information about the SEIS, see the notice of intent to prepare an SEIS published in the Proposed Rules section of the Federal Register (66 FR 30396, June 6, 2001).

The function of the EFH Committee is to serve as a steering committee for the EFH EIS process. The Committee’s overarching goal is to facilitate input by the industry, conservation community, NPFMC, and general public to the EFH EIS process. This will be the fourth meeting of the EFH Committee. Prior meetings were held May 30, August 13 & 14, and October 4, 2001.

Agenda items for the EFH Committee meeting include:

1. Discussion of NEPA requirements and objectives;

2. Discussion of Draft Purpose and Need statement;

3. Discussion of issues including issue statements, issue categories and key or significant issues;

4. Discussion of alternatives for EFH and HAPC;

5. Selection of EFH and HAPC Alternatives to recommend to the NPFMC; and

6. EFH Committee tasks, timetable and next meeting.

Although other issues not contained in this agenda may come before the Committee for discussion, those issues may not be the subject of formal action during the meeting. Action will be restricted to those issues specifically identified in this notification.

Agenda items for the NMFS EFH workshop include the above listed tasks. Participants at the workshop will also discuss data sources and availability, discuss criteria for selecting an EFH and HAPC alternative, screen EFH and HAPC concepts, evaluate potential EFH and HAPC alternatives, and map and describe EFH by life history stage for managed species. There will be an evaluation of the workshop and a discussion of the steps necessary to determine effects of fishing on EFH and measures to minimize effects of fishing to the extent practicable. Tasks will be discussed and possibly assigned and the next workshop date set.

Special Accommodations

This meeting is physically accessible to people with disabilities. Requests for sign language interpretation or other auxiliary aids should be directed to Cindy Hartmann, (907) 586-7235, at least 5 working days prior to the meeting date.

Authority: 16 U.S.C. 1801 et seq.

Dated: October 23, 2001.
Bruce C. Morehead,
Acting Director, Office of Sustainable Fisheries, National Marine Fisheries Service.

[FR Doc. 01-27040 Filed 10-25-01; 8:45 am]

BILLING CODE 3510-22-S